DEPARTMENT OF COMMERCE

International Trade Administration

[A-533-857]

Certain Oil Country Tubular Goods From India: Rescission of Antidumping Duty Administrative Review; 2015

AGENCY: Enforcement and Compliance, International Trade Administration, Department of Commerce.

DATES: Effective Date: March 23, 2016.

FOR FURTHER INFORMATION CONTACT: Spencer Toubia, Enforcement and Compliance, International Trade Administration, U.S. Department of Commerce, 14th Street and Constitution Avenue NW., Washington, DC 20230; telephone: (202) 482-0123.

Background

On September 1, 2015, the Department of Commerce (the Department) published a notice of opportunity to request an administrative review of the antidumping duty (AD) order on certain oil country tubular goods (OCTG) from India covering the period of review (POR) of February 25, 2014, through August 31, 2015.¹ The Department received timely requests for review of GVN Fuels, Ltd. (GVN), Oil Country Tubular Limited (OCT), and United Seamless Tubulaar Pvt. Ltd. (USTPL) ² and it published a notice initiating an administrative review of the AD order on November 9, 2015.³ USPTL timely withdrew its requests for review on December 11, 2015.⁴ Hilcorp Alaska LLC (Hilcorp) timely withdrew its request for review of OCT on January 25, 2016.⁵ Energex Tube, a division of JMC Steel Group, TMK IPSCO, Vallourec Star LP, Welded Tube USA Inc, Maverick Tube Corporation, and United States Steel Corporation (collectively, Petitioners) and GVN timely withdrew their respective requests on February 12, 2016.⁶

¹ See Antidumping or Countervailing Duty Order, Finding, or Suspended Investigation; Opportunity To Request Administrative Review, 80 FR 52741 (September 1, 2015).

² See Letter to the Department from Petitioners, “Oil Country Tubular Goods from India: Request for Administrative Review,” dated September 29, 2015; Letter to the Department from Hilcorp Alaska LLC, “Oil Country Tubular Goods from India: Request for Administrative Review,” dated September 30, 2015; Letter to the Department from USTPL, “Certain Oil Country Tubular Goods From India: Request For Administrative Review,” dated September 30, 2015.

³ See Initiation of Antidumping and Countervailing Duty Administrative Reviews, 80 FR 69193 (November 9, 2015).

⁴ See Letter to the Department from USPTL, “Antidumping Duty Administrative Review of Certain Oil Country Tubular Goods From India—Withdrawal of Request for Administrative Review,” dated December 1, 2015.

⁵ See Letter to the Department from Hilcorp, “Withdrawal of Request for Administrative Review; Case No. A-533-857 Antidumping Order on Oil Country Tubular Goods from India,” dated January 25, 2015.

⁶ See Letter to the Department from Petitioners, “Oil Country Tubular Goods from India: Withdrawal of Request for Administrative Review,” dated February 12, 2016; Letter to the Department from GVN, “Oil Country Tubular Goods from India; Withdrawal of Administrative Review Request,” dated February 12, 2016.

Rescission of Review

Pursuant to 19 CFR 351.213(d)(1), the Secretary will rescind an administrative review, in whole or in part, if the parties that requested the review withdraw the request within 90 days of the date of publication of the notice of initiation of the requested review. USPTL's December 11, 2015 withdrawal request, Hilcorp's January 25, 2016 withdrawal request, Petitioners' February 12, 2016 withdrawal request and GVN's February 12, 2016 withdrawal request were submitted within the 90-day period (as tolled for the snow emergency) ⁷ and thus are timely. Because these requests were timely and no other party requested a review of GVN, USPTL, or OCT, and because GVN, USPTL, and OCT were the only companies for which a review was requested, we are rescinding this review in whole, in accordance with 19 CFR 351.213(d)(1).

⁷ See Memorandum from Ronald Lorentzen, Acting Assistant Secretary for Enforcement and Compliance, to the Record, Re: “Tolling of Administrative Deadlines as a Result of the Government Closure during Snowstorm `Jonas,' ” dated January 27, 2016, in which the Department exercised its discretion to toll all administrative deadlines by four business days.

Assessment

The Department will instruct CBP to assess antidumping duties on all appropriate entries. For GVN, USPTL and OCT, the companies for which this review is rescinded, antidumping duties shall be assessed at a rate equal to the cash deposit of estimated antidumping duties required at the time of entry, or withdrawal from warehouse, for consumption, in accordance with 19 CFR 351.212(c)(1)(i). The Department intends to issue assessment instructions to CBP 15 days after the date of publication of this notice.

Notification to Importers

This notice serves as the only reminder to importers of their responsibility under 19 CFR 351.402(f)(2) to file a certificate regarding the reimbursement of antidumping duties prior to liquidation of the relevant entries during this review period. Failure to comply with this requirement may result in the presumption that reimbursement of antidumping duties occurred and the subsequent assessment of double antidumping duties.

Notification Regarding Administrative Protective Orders

This notice also serves as a final reminder to parties subject to administrative protective order (APO) of their responsibility concerning the return or destruction of proprietary information disclosed under APO in accordance with 19 CFR 351.305(a)(3). Timely written notification of the return/destruction of APO materials or conversion to judicial protective order is hereby requested. Failure to comply with the regulations and terms of an APO is a sanctionable violation.

This notice is issued and published in accordance with section 751 of Act and 19 CFR 351.213(d)(4).

Dated: March 17, 2016.
Christian Marsh,
Deputy Assistant Secretary for Antidumping and Countervailing Duty Operations.

[FR Doc. 2016-06568 Filed 3-22-16; 8:45 am]

BILLING CODE 3510-DS-P